DEPARTMENT OF THE INTERIOR

National Park Service

[NPS-WASO-NAGPRA-15074; PPWOCRADN0-PCU00RP14.R50000]

Notice of Inventory Completion: Texas A&M University, College Station, TX

AGENCY: National Park Service, Interior.

ACTION: Notice.

SUMMARY: Texas A&M University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Texas A&M University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains and associated funerary objects under the control of Texas A&M University, College Station, TX. The human remains and associated funerary objects were removed from Aransas, Brazoria, Harris, Nueces, and Matagorda Counties, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Texas A&M University (TAMU) professional staff in 1995, and the remains were determined to be ancestral to the historic Coahuiltecan culture. In 2010, representatives of the Tonkawa Tribe of Indians of Oklahoma were invited to consult with TAMU for the purpose of determining the place and manner of the repatriation, but no Tonkawa Tribe of Indians of Oklahoma representatives contacted TAMU or visited the remains in response to this invitation.

History and Description of the Remains

In October 1980, human remains representing, at minimum, seven individuals were removed from the Palm Harbor site (41AS80) in Aransas County, TX, during a salvage project at a construction site. At the time of excavation, the co-mingled remains were not given a site burial designation. The human remains were determined to be two adult females, four adult males, and one subadult. The human remains were donated to TAMU in 1980 (TAMU-NAGPRA 17), and the archeologists at the time indicated that these individuals dated to the Late Archaic Period, possibly the Karankawa culture. No known individuals were identified. No associated funerary objects are present. Based on geographic location, TAMU staff found it reasonable to trace a shared identity from this site to the historic Coahuiltecan culture. Archeological and linguistic evidence, historical records, and traditional beliefs indicate that there is a relationship of shared group identity between the historic Coahuiltecan culture and the present-day Tonkawa Tribe of Indians of Oklahoma.

Between October 1987 and February 1988, human remains representing, at minimum, two individuals were removed from the Alabonson Road site (41HR273) in Harris County, TX, as part of a CRM project jointly conducted by Texas A&M and Prewitt and Assoc., Inc. The human remains were determined to be as follows: From Burial #1 (TAMU-NAGPRA 31), one adult female; and from Burial #2 (TAMU-NAGPRA 32), one adult female. No known individuals were identified. The three associated funerary objects associated with Burial #1 include one lot of fresh water mussel shells found in a circular pattern in chest area, one modified animal bone also found in chest region, and one human canine. No associated funerary objects were associated with Burial #2. Based on the associated funerary remains and the geographic location, TAMU staff found it reasonable to trace a shared identity from this site to the historic Coahuiltecan culture. Archeological and linguistic evidence, historical records, and traditional beliefs indicate that there is a relationship of shared group identity between the historic Coahuiltecan culture and the present-day Tonkawa Tribe of Indians of Oklahoma.

Sometime prior to 1978, human remains representing, at minimum, nine individuals were removed from the Lunde Motte site (41MG35) in Matagorda County, TX, by a private individual, and were donated to TAMU in 1978. The human remains were determined to be nine adults of indeterminate sex (TAMU-NAGPRA 42). No known individuals were identified. No associated funerary objects are present. Based on the geographic location, TAMU staff found it reasonable to trace a shared identity from this site to the historic Coahuiltecan culture. Archeological and linguistic evidence, historical records, and traditional beliefs indicate that there is a relationship of shared group identity between the historic Coahuiltecan culture and the present-day Tonkawa Tribe of Indians of Oklahoma.

Sometime prior to 1995, human remains representing, at minimum, four individuals were removed from the Bauman site (41NU66) in Nueces County, TX, by a private individual, and donated to TAMU. The human remains were determined to be as follows: One adult male; two adults of indeterminate sex; one subadult (TAMU-NAGPRA 43). No known individuals were identified. No associated funerary objects are present. Based on the geographic location, TAMU staff found it reasonable to trace a shared identity from this site to the historic Coahuiltecan culture. Archeological and linguistic evidence, historical records, and traditional beliefs indicate that there is a relationship of shared group identity between the historic Coahuiltecan culture and the present-day Tonkawa Tribe of Indians of Oklahoma.

In 1983, human remains representing, at minimum, two individuals were removed from the Darrington Point Prison Unit Site in Brazoria County, TX. The human remains were determined to be as follows: One adult male and one adult female (TAMU-NAGPRA 60). No known individuals were identified. No associated funerary objects are present. Based on the geographic location, TAMU staff found it reasonable to trace a shared identity from this site to the historic Coahuiltecan culture. Archeological and linguistic evidence, historical records, and traditional beliefs indicate that there is a relationship of shared group identity between the historic Coahuiltecan culture and the present-day Tonkawa Tribe of Indians of Oklahoma.

Sometime prior to 1995, human remains representing, at minimum, one individual were removed from the surface of the Laguna Madre Bauman site in Nueces County, TX, by a private individual, and donated to TAMU. The human remains were determined to be those of one adult male (TAMU-NAGPRA 61). No known individuals were identified. No associated funerary objects are present. Based on the geographic location, TAMU staff found it reasonable to trace a shared identity from this site to the historic Coahuiltecan culture. Archeological and linguistic evidence, historical records, and traditional beliefs indicate that there is a relationship of shared group identity between the historic Coahuiltecan culture and the present-day Tonkawa Tribe of Indians of Oklahoma.

Determinations Made by Texas A&M University

Officials of Texas A&M University have determined that:

• Pursuant to 25 U.S.C. 3001(9), the human remains described in this notice represent the physical remains of 25 individuals of Native American ancestry.

• Pursuant to 25 U.S.C. 3001(3)(A), the 3 objects described in this notice are reasonably believed to have been placed with or near individual human remains at the time of death or later as part of the death rite or ceremony.

• Pursuant to 25 U.S.C. 3001(2), there is a relationship of shared group identity that can be reasonably traced between the Native American human remains and associated funerary objects and the Tonkawa Tribe of Indians of Oklahoma.

Additional Requestors and Disposition

Lineal descendants or representatives of any Indian tribe or Native Hawaiian organization not identified in this notice that wish to request transfer of control of these human remains and associated funerary objects should submit a written request with information in support of the request to Dr. Suzanne L. Eckert, Department of Anthropology, Texas A&M University, College Station, TX 77843-4352, telephone (979) 845-5242, by May 19, 2014. After that date, if no additional requestors have come forward, transfer of control of the human remains and associated funerary objects to the Tonkawa Tribe of Indians of Oklahoma may proceed.

Texas A&M University is responsible for notifying the Tonkawa Tribe of Indians of Oklahoma that this notice has been published.

Dated: February 19, 2014.
Sherry Hutt,
Manager, National NAGPRA Program.

[FR Doc. 2014-08811 Filed 4-16-14; 8:45 am]

BILLING CODE 4312-50-P